DEPARTMENT OF DEFENSE

Department of the Army

Privacy Act of 1974; System of Records

AGENCY: Department of the Army, DoD.

ACTION: Notice to delete systems of records.

SUMMARY: The Department of the Army is deleting a system of records notice from its existing inventory of records systems subject to the Privacy Act of 1974, (5 U.S.C. 552a), as amended. The system of records, A0037-1 MTMC, entitled Defense Travel System, was transferred to the Defense Financing and Accounting Service and assigned the system identifier T7334, entitled Defense Travel System.

DATES: This proposed action will be effective without further notice on October 8, 2004, unless comments are received which result in a contrary determination.

ADDRESSES: Department of the Army, Freedom of Information/Privacy Act Office, 701 Telegraph Road, Alexandria, VA 22315-3905.

FOR FURTHER INFORMATION CONTACT: Ms. Janice Thornton at (703) 428-6504.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: September 1, 2004.
L.M. Bynum,
Alternate OSD Federal Register Liaison Officer, Department of Defense.

A0037-1 MTMC

System name:

Defense Travel System (DTS) (March 12, 1999, 64 FR 12291).

Reason: The system of records was transferred to the Defense Finance and Accounting Service, and was assigned the system identifier T7334, entitled Defense Travel System.

[FR Doc. 04-20280 Filed 9-7-04; 8:45 am]

BILLING CODE 5001-06-M